DEPARTMENT OF HEALTH AND HUMAN SERVICES

Centers for Disease Control and Prevention

[60Day-04-68]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Sandra Gambescia, CDC Assistant Reports Clearance Officer, 1600 Clifton Road, MS-E11, Atlanta, GA 30333 or send an e-mail to omb@cdc.gov. Written comments should be received within 60 days of this notice.

Proposed Project

National Blood Lead Surveillance System (OMB No. 0920-0337) — Extension — National Center for Environmental Health, Centers for Disease Control and Prevention. CDC, National Center for Environmental Health began the National Childhood Lead Surveillance Program in 1992. The goals of the childhood lead surveillance program are to: (1) Establish childhood lead surveillance systems at the state and national levels; (2) use surveillance data to estimate the extent of elevated blood-lead levels (BLLs) among children; (3) assess the follow-up of children with elevated blood-lead levels; (4) examine potential sources of lead exposure; and (5) help allocate resources for lead poison prevention activities. State surveillance systems are based on reports of blood-lead tests from laboratories. Ideally, laboratories report results of all lead tests (not just elevated values) to the state health department; however, each state determines the reporting level for blood-lead tests. In addition to blood-lead test results, state child-specific surveillance databases contain follow-up data on children with elevated blood-lead levels including data on medical treatment, environmental investigations, and potential sources of lead exposure. Surveillance data for the national database are extracted from the state child tracking databases and transferred to CDC.

Since 1987, CDC has sponsored the state-based Adult Blood Lead Epidemiology and Surveillance (ABLES) program to track cases of elevated BLLs among persons ages 16 years and older, and provide intervention consultation and other assistance. The public health objective of the ABLES program, as stated in Healthy People 2010, is to reduce the number of persons with BLLs ≥25 μ/dL from work exposures to zero by 2010. The ABLES program seeks to accomplish its objective by continuing to improve its surveillance programs and helping state health and other agencies to effectively intervene to prevent further lead exposures. Intervention strategies implemented by state ABLES-reporting include: Conducting follow-up interviews with physicians, employers, and workers; investigating work sites; delivering technical assistance regarding exposure reduction or prevention; providing referrals for consultation and enforcement; and developing and disseminating educational materials and outreach programs. To coordinate their reporting and intervention activities for maximum efficiency, state ABLES programs are strongly encouraged to develop effective working relationships with the childhood lead prevention programs in their states. An estimated 2%-3% of children with BLLs ≥10 μ/dL reach those levels from exposure to lead brought home from the workplace on the clothes or in the vehicles of their adult caregivers.

ABLES is being included for the first time under this OMB approval request. ABLES is also a state laboratory-based surveillance system and many states collect both child and adult blood lead data. This request is for a 3-year extension with a change in the burden hours and inclusion of the adult blood lead surveillance system. There is no cost to respondents.

Respondents | Number of respondents | Number of responses per respondent | Average burden per response (in hrs.) | Total burden hours
State and Local Health Departments for Child Surveillance | 47 | 4 | 2 | 376
State and Local Health Departments for Adult Surveillance | 37 | 4 | 2 | 296
Total |  |  |  | 672

Dated: June 21, 2004.
Diane Allen,
Acting Director, Management Analysis and Services Office, Centers for Disease Control and Prevention.

[FR Doc. 04-14669 Filed 6-28-04; 8:45 am]

BILLING CODE 4163-18-P